DEPARTMENT OF ENERGY

Federal Energy Regulatory Commission

[Docket No. CP01-8-000]

Texas Eastern Transmission Corporation; Notice of Application

October 20, 2000.

Take notice that on October 10, 2000, Texas Eastern Transmission Corporation (Texas Eastern), 5400 Westheimer Court, P.O. Box 1642, Houston, Texas 77251-1642, filed in Docket No. CP01-8-000 an application pursuant to the provisions of Section 7 of the Natural Gas Act for a certificate of public convenience and necessity authorizing the leasing of capacity on Algonquin Gas Transmission Company's (Algonquin) system all as more fully set forth in the application which is on file with the Commission and open to public inspection. This filing may be viewed on the web at http://www.ferc.fed.us/online/rims.htm (call 202-208-2222 for assistance).

Specially, Texas Eastern seeks authorization to lease 80,000 Dth per day of capacity on Algonquin's system. The leased capacity will extend from the interconnection near Beverly, Massachusetts between Algonquin's proposed facilities in Docket No. CP01-5-000 and the facilities proposed by Maritimes & Northeast Pipeline, L.L.C. (Maritimes & Northeast) in Docket No. CP01-4-000 to the existing interconnection between Texas Eastern and Algonquin in Lambertville, New Jersey. The term of the lease is for 20 years and the lease will commence on November 1, 2002 which coincides with the in-service dates of the proposed Algonquin and Maritimes & Northeast facilities.

The fixed monthly lease payment under the lease agreement is $559,360. In addition, Texas Eastern will pay a volumetric charge equal to the maximum commodity charge applicable to Rate Schedule AFT-1 per dekatherm delivered at Lambertville. Algonquin states that the monthly lease payment is less than the maximum recourse rate and thus meets Commission standards for lease payments. Texas Eastern states that the leased capacity will provide certain firm hourly swing rights. In addition, Texas Eastern states that the capacity rights will further the goals of Order No. 637 by enhancing Texas Eastern's ability to provide imbalance management services on its system and mitigate the need to issue operational flow orders.

Any questions regarding the application should be directed to Steven E. Tillman, Director of Regulatory Affairs, Texas Eastern Transmission Corporation, P.O. Box 1642, Houston, Texas 77251-1642 at 713-627-5113.

Any person desiring to be heard or to make any protest with reference to said application should on or before November 13, 2000, file with the Federal Energy Regulatory Commission, 888 First Street NE, Washington, DC 20426, a motion to intervene or protest in accordance with the requirements of the Commission's Rules of Practice and Procedure (18 CFR 385.211 and 385.214) and the regulations under the NGA (18 CFR 157.10). All protests filed with the Commission will be considered by it in determining the appropriate action to be taken but will not serve to make the protestants parties to the proceeding. Any person wishing to become a party in any proceeding must file a motion to intervene in accordance with the Commission's rules. Beginning November 1, 2000, comments and protests may be filed electronically via the internet in lieu of paper. See, 18 CFR 385.2001(a)(1)(iii) and the instructions on the Commission's web site at http://www.ferc.fed.us/efi/doorbell.htm.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit original and two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Commission by sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure provided for, unless otherwise advised, it will be unnecessary for Texas Eastern to appear or to be represented at the hearing.

David P. Boergers,
Secretary.

[FR Doc. 00-27488 Filed 10-25-00; 8:45 am]

BILLING CODE 6717-01-M